DEPARTMENT OF HOUSING AND URBAN DEVELOPMENT

[Docket No. FR-5600-FA-37]

Announcement of Funding Awards; Office of Native American Programs Training and Technical Assistance; Fiscal Year 2012

AGENCY: Office of Native American Programs, Office of Public and Indian Housing, HUD.

ACTION: Announcement of funding awards.

SUMMARY: In accordance with Section 102(a)(4)(C) of the Department of Housing and Urban Development Reform Act of 1989, this announcement notifies the public of funding decisions made by the Department in a competition for funding under the Fiscal Year 2012 (FY 2012) Notice of Funding Availability (NOFA) for the Office of Native American Programs Training and Technical Assistance (ONAP T&TA). This announcement contains the consolidated names of this year's award recipients under the NOFA.

FOR FURTHER INFORMATION CONTACT: Mike Andrews, Director, Office of Native Programs, 451 Seventh Street SW., Washington, DC 20410, telephone number 202-402-6329. Hearing or speech-impaired individuals may access this number via TTY by calling the toll-free Federal Information Relay Service at 800-877-8339.

SUPPLEMENTARY INFORMATION: This program provides grants to Indian tribes and Alaska Native Villages to provide training and technical assistance to Indian, Alaska Native, and Native Hawaiian communities on topics pertinent to the Native American Housing and Self-Determination Act (NAHASDA), the Indian Housing Block Grant program, and the Native Hawaiian Housing Block Grant (NHHBG) program, including the creation of decent housing, suitable living environments, and economic opportunities primarily for persons with low and moderate incomes as defined in 24 CFR 1003.4.

The FY 2012 awards announced in this notice were selected for funding in a competition posted on the Grants.gov Web site on August 30, 2012. Applications were scored and selected for funding based on the selection criteria in that NOFA. The amount allocated in FY 2012 to fund the NOFA was $7.35 million, divided into 3 categories: $2 million for national or regional organizations representing Native American housing interests, $5 million for national or regional organizations representing Native American housing interests and for-profit entities, and $350,000 for national and regional nonprofit organizations, as well as for-profit entities to provide Training & Technical Assistance to the Department of Hawaiian Homelands (DHHL) and sub-recipients of NHHBG.

In accordance with Section 102(a)(4)(C) of the Department of Housing and Urban Development Reform Act of 1989 (42 U.S.C. 3545), today's Federal Register publication lists in Appendix A the names, addresses, and amounts to which awards were made under the FY 2012 ONAP Training and Technical Assistance NOFA.

Dated: April 24, 2013.
Sandra B. Henriquez,
Assistant Secretary for Public and Indian Housing.

APPENDIX A

Name/Address of applicant | Category | Amount funded
Association of Alaskan Housing Authorities, 4300 Boniface Parkway, Suite 190, Anchorage, AK 99504-4317, (907) 338-3970 | National or regional organization representing Native American housing interest | $1,500,000.00
National American Indian Housing Council, 900 2nd St NE., Suite 107, Washington, DC 20002-3558, (202) 789-1754 | National or regional organization representing Native American housing interest | 1,350,000.00
ICF Incorporated, LLC, 9300 Lee Highway, Fairfax, VA 22031-1207, (425) 747-6963 | National or regional organization representing Native American housing interest and for-profit entities | 1,000,000.00
FirstPic, 2614 Chapel Lake Drive, Gambrills, MD 21054-1637, (202) 393-6400 | National or regional organization representing Native American housing interest and for-profit entities | 1,000,000.00
Econometrica, 4416 East West Highway, Suite 215, Bethesda, MD 20814-4572, (240) 333-4807 | National or regional organization representing Native American housing interest and for-profit entities | 1,000,000.00
National Congress of American Indians, 1516 P Street NW., Washington, DC 20005-1910, (202) 466-7767 | National or regional organization representing Native American housing interest and for-profit entities | 750,000.00
Red Lake Reservation Housing Authority, 23884 Highway 1 East, Red Lake, MN 56671-0219, (218) 679-3368 | National or regional organization representing Native American housing interest and for-profit entities | 400,000.00
Pacific American Foundation, 146 Hekili Street, #203, Kailua, HI 96734-2873, (808) 263-0083 | National or regional nonprofit organizations, or for-profit entities equipped to provide Training & Technical Assistance to DHHL and sub-recipients of NHHBG | 350,000.00

[FR Doc. 2013-10052 Filed 4-29-13; 8:45 am]

BILLING CODE 4210-67-P